DEPARTMENT OF HEALTH AND HUMAN SERVICES

Administration for Children and Families

Agency Recordkeeping/Reporting Requirements Under Emergency Review by the Office of Management and Budget (OMB)

Title: Provision of Child Support Services in IV-D cases under the Hague Child Support Convention; Federally Approved Forms.

OMB No.: New Collection.

Description: On January 1, 2017, the 2007 Hague Convention on the International Recovery of Child Support and Other Forms of Family Maintenance will enter into force for the United States. This Convention contains groundbreaking provisions that, for the first time on a worldwide scale, will establish uniform, simple, fast, and inexpensive procedures for the processing of international child support cases. Once the Convention is in effect, U.S. states will process child support cases with other countries that have ratified the Convention under the requirements of the Convention and article 7 of the Uniform Interstate Family Support Act (UIFSA 2008). In order to comply with the Convention, the U.S. must implement the Convention's case processing forms.

State and Federal law require states to use federally-approved case processing forms. Section 311(b) of UIFSA 2008, which has been enacted by all 50 states, the District of Columbia, Guam, Puerto Rico and the Virgin Islands, requires States to use forms mandated by Federal law. 45 CFR 303.7 also requires child support programs to use federally-approved forms in intergovernmental IV-D cases unless a country has provided alternative forms as a part of its chapter in a Caseworker's Guide to Processing Cases with Foreign Reciprocating Countries.

Respondents: State agencies administering a child support program under title IV-D of the Social Security Act.

Annual Burden Estimates
Instrument | Number of respondents | Number of responses per respondent | Average burden hours per response | Total burden hours
Annex I: Transmittal form under Article 12(2) | 54 | 46 | 1 | 2,484
Annex II: Acknowledgment form under Article 12(3) | 54 | 93 | .5 | 2,511
Annex A: Application for Recognition and Enforcement, including restricted information on the applicant | 54 | 19 | .5 | 513
Annex A: Abstract of Decision | 54 | 5 | 1 | 270
Annex A: Statement of Enforceability of Decision | 54 | 19 | 0.17 | 174
Annex A: Statement of Proper Notice | 54 | 5 | .5 | 135
Annex A: Status of Application Report | 54 | 37 | .33 | 659
Annex B: Application for Enforcement of a Decision Made or Recognized in the Requested State, including restricted information on the applicant | 54 | 19 | .5 | 513
Annex B: Status of Application Report, Article 12 | 54 | 37 | .33 | 659
Annex C: Application for Establishment of a Decision, including restricted information on the Applicant | 54 | 5 | .5 | 135
Annex C: Status of Application Report—Article 12 | 54 | 9 | .33 | 160
Annex D: Application for Modification of a Decision, including Restricted Information on the Applicant | 54 | 5 | .5 | 135
Annex D: Status of Application Report—Article 12 | 54 | 9 | .33 | 160
Annex E: Financial Circumstances Form | 54 | 46 | 2 | 4,968

Estimated Total Annual Burden Hours: 13,478.

Additional Information: ACF is requesting that OMB grant a 180 day approval for this information collection under procedures for emergency processing by October 20, 2016. A copy of this information collection, with applicable supporting documentation, may be obtained by calling the Administration for Children and Families, Reports Clearance Officer, Robert Sargis at (202) 690-7275.

Comments and questions about the information collection described above should be directed to the Office of Information and Regulatory Affairs, Attn: OMB Desk Officer for ACF, Office of Management and Budget, Paperwork Reduction Project, 725 17th Street NW., Washington, DC 20503; FAX: (202) 395-7285; email: oira_submission@omb.eop.gov.

Robert Sargis,
Reports Clearance Officer.

[FR Doc. 2016-24583 Filed 10-11-16; 8:45 am]

BILLING CODE 4184-01-P